DEPARTMENT OF COMMERCE

International Trade Administration

[C-570-980]

Crystalline Silicon Photovoltaic Cells, Whether or Not Assembled Into Modules, From the People's Republic of China: Postponement of Preliminary Determination in the Countervailing Duty Investigation

AGENCY: Import Administration, International Trade Administration, Department of Commerce.

FOR FURTHER INFORMATION CONTACT: Gene Calvert, Jun Jack Zhao, or Emily Halle, AD/CVD Operations, Office 6, Import Administration, International Trade Administration, U.S. Department of Commerce, 14th Street and Constitution Avenue NW., Washington, DC 20230; telephone: (202) 482-3586, (202) 482-1396 or (202) 482-0176, respectively.

SUPPLEMENTARY INFORMATION:

Background

On November 8, 2011, the Department of Commerce (the Department) initiated the countervailing duty investigation of crystalline silicon photovoltaic cells, whether or not assembled into modules, from the People's Republic of China.¹ Currently, the preliminary determination is due no later than January 12, 2012.

¹ See Crystalline Silicon Photovoltaic Cells, Whether or Not Assembled Into Modules, From the People's Republic of China: Initiation of Countervailing Duty Investigation, 76 FR 70966 (November 16, 2011).

Postponement of Due Date for the Preliminary Determination

Section 703(b)(1) of the Tariff Act of 1930, as amended (the Act), requires the Department to issue the preliminary determination in a countervailing duty investigation within 65 days after the date on which the Department initiated the investigation. However, section 703(c)(1)(A) of the Act permits the Department to postpone making the preliminary determination until no later than 130 days after the date on which it initiated the investigation if, among other reasons, the petitioner makes a timely request for an extension. In the instant investigation, the petitioner, SolarWorld Industries America, Inc., made a timely request on December 16, 2011, requesting a postponement of the preliminary countervailing duty determination to 95 days from the initiation date.²

² See 19 CFR 351.205(e) and the petitioner's December 16, 2011 letter requesting postponement of the preliminary determination.

The Department notes that 95 days from the initiation date is February 11, 2012. February 11, 2012 falls on a Saturday, and it is the Department's long-standing practice to issue a determination the next business day when the statutory deadline falls on a weekend, federal holiday, or any other day when the Department is closed.³ Therefore, pursuant to the discretion afforded to the Department under section 703(c)(1)(A) of the Act, and because the Department does not find any compelling reason to deny the request, we are extending the due date for the preliminary determination to no later than February 13, 2012, the first business day after the 95th day from initiation.

³ See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: December 21, 2011.
Paul Piquado,
Assistant Secretary for Import Administration.

[FR Doc. 2011-33495 Filed 12-28-11; 8:45 am]

BILLING CODE 3510-DS-P